COMMISSION ON CIVIL RIGHTS

Agenda and Notice of Public Meeting of the Illinois Advisory Committee

Notice is hereby given, pursuant to the provisions of the rules and regulations of the U.S. Commission on Civil Rights (Commission), and the Federal Advisory Committee Act (FACA), that a planning meeting of the Illinois Advisory Committee to the Commission will convene by conference call at 1 p.m. and adjourn at 2 p.m. CST on June 22, 2007. The purpose of the meeting is to approve two project proposals: (1) Enforcing Prohibitions of Religious Discrimination in Illinois Prisons, and (2) Racial and Ethnic Disparities of Health in Chicago.

This meeting is available to the public through the following toll-free call-in number: 800-516-9896, access code 9594. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and access code.

To ensure that the Commission secures an appropriate number of lines for the public, persons are asked to register by contacting Carolyn Allen of the Midwestern Regional office at (312) 353-8311, by 12 p.m. on June 21, 2007.

Members of the public are entitled to submit written comments. The comments must be received in the regional office by June 18, 2007. The address is 55 W. Monroe St., Suite 410, Chicago, IL 60603. Comments may be emailed to Carolyn Allen at callen@usccr.gov. Records generated by this meeting may be inspected and reproduced at the Midwestern Regional Office, as they become available, both before and after the meeting. Persons interested in the work of this advisory committee are advised to go to the Commission's Web site, www.usccr.gov, or to contact the Midwestern Regional Office at the above email or street address.

The meeting will be conducted pursuant to the provisions of the rules and regulations of the Commission and FACA.

Dated in Washington, DC, June 12, 2007.
Ivy Davis,
Acting Chief, Regional Programs Coordination Unit.

[FR Doc. E7-11639 Filed 6-15-07; 8:45 am]

BILLING CODE 6335-02-P